DEPARTMENT OF LABOR

Employment and Training Administration

[TA-W-60,604]

T.A. Service Corporation; Newark, NJ; Notice of Termination of Investigation

Pursuant to section 221 of the Trade Act of 1974, as amended, an investigation was initiated on December 15, 2006, in response to a worker petition filed by the State Trade Coordinator on behalf of workers at T.A. Service Corporation, Newark, New Jersey.

The petitioner has requested that the petition be withdrawn. Consequently, the investigation has been terminated.

Signed at Washington, DC, this 19th day of December, 2006.
Richard Church,
Certifying Officer, Division of Trade Adjustment Assistance.

[FR Doc. E7-145 Filed 1-9-07; 8:45 am]

BILLING CODE 4510-30-P